COMMISSION ON CIVIL RIGHTS

Sunshine Act Notice

AGENCY: United States Commission on Civil Rights.

ACTION: Notice of meeting.

DATE AND TIME: Friday, February 3, 2012; 9:30 a.m. EST.

PLACE: 624 Ninth Street NW., Room 540, Washington, DC 20425.

Meeting Agenda

This meeting is open to the public.

I. Approval of Agenda

II. Approval of the January 13, 2012 Meeting Minutes

III. Program Planning Update and discussion of projects

• OGC Clarification on Administration of Justice

IV. Management and Operations

• Staff Director's report

• Chief of Regional Programs' report

V. State Advisory Committee Issues

• Re-chartering the Indiana SAC

• Review of two Hawaii SAC applicants

VI. Adjourn Meeting

Briefing Agenda

This briefing is open to the public.

Topic: Redistricting and the 2010 Census: Enforcing Section 5 of the VRA.

I. Introductory Remarks by Chairman

II. Panel I: Speakers' Remarks

III. Panel I: Questions from Commissioners and Staff Director

IV. Panel II: Speakers' Remarks

V. Panel II: Questions from Commissioners and Staff Director

VI. Adjourn Briefing

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: January 23, 2012.
Kimberly Tolhurst,
Senior Attorney-Advisor.

[FR Doc. 2012-1602 Filed 1-23-12; 4:15 pm]

BILLING CODE 6335-01-P